SECURITIES AND EXCHANGE COMMISSION

[Release No. 34-60629; File No. SR-CBOE-2009-063]

Self-Regulatory Organizations; Chicago Board Options Exchange, Incorporated; Notice of Filing and Immediate Effectiveness of Proposed Rule Change Relating to Temporary Membership Status and Interim Trading Permit Access Fees

Correction

In notice document E9-21994 beginning on page 47034 in the issue of Monday, September 14, 2009, make the following correction:

On page 47036 in the first paragraph, the single date on the last line should read, “October 5, 2009”.

[FR Doc. Z9-21994 Filed 9-22-09; 8:45 am]

BILLING CODE 1505-01-D